DEPARTMENT OF THE INTERIOR

National Park Service

Notice of Inventory Completion: Amherst College Museum of Natural History, Amherst College, Amherst, MA

AGENCY: National Park Service, Interior.

ACTION: Notice.

Notice is here given in accordance with the Native American Graves Protection and Repatriation Act (NAGPRA), 25 U.S.C. 3003, of the completion of an inventory of human remains and associated funerary objects in the possession and control of the Amherst College Museum of Natural History (formerly the Pratt Museum of Natural History), Amherst College, Amherst, MA. The human remains and associated funerary objects were removed from Cumberland County, ME.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and an inventory of the associated funerary objects were made by the staff of the Amherst College Museum of Natural History and its agents, in consultation with the Wabanaki Intertribal Repatriation Committee, a non-Federally recognized Indian group, representing the Federally-recognized Aroostook Band of Micmac Indians of Maine, Houlton Band of Maliseet Indians of Maine, Passamaquoddy Tribe of Maine, and the Penobscot Tribe of Maine.

In 1909, human remains representing a minimum of one individual were excavated from a coastal shell midden on Flagg Island, Cumberland County, ME, by Professor Frederic B. Loomis and his associates. The human remains have been in the possession of the Amherst College Museum of Natural History since that date. No known individual was identified. The museum holds 33 cultural objects that were also removed from Flagg Island middens in the same season. It is not known whether or not these objects come from the same burial or the same site as the human remains. Based on their provenience and date of removal, however, the museum reasonably believes the cultural items could be associated funerary objects. The 33 associated funerary objects are 19 bone awls, 7 bone tools, 5 hollow bone tools, and 2 blunt horn tools.

The remains of this one individual are represented by approximately 54 bones or bone fragments. No cranial or pelvic elements are present and neither femur includes a proximal end. Therefore, no data relating to sex or age estimation can be gathered. Based on size and long-bone epiphyseal closure, however, this individual was most likely an adult.

A document in the Amherst College Archives, Pratt Museum Papers, titled “Field Record of Specimens from `Sawyer's Island First Digging,' a Paleo-Indian Site”, gives the provenience for these materials. This ledger records the general location (Flagg Island, Maine), approximate date (July or August, 1909), and specimen numbers of both the human remains and cultural items. Loomis interpreted the material to be Algonquin and the people of the middens to be related to the present-day Abnakis of Maine, (see Loomis & Young, American Journal of Science, v. 34, p. 41). Loomis concluded that the middens were built between 200 to 400 years prior to European contact, A.D. 1627, (see Loomis, American Journal of Science, v. 31, p. 227). According to Dr. John Stubbs, Jr., Peabody Museum of Archeology and Ethnology, the presence of pottery fragments found within the Flagg Island midden suggests the human remains and cultural items are most likely less than 2,700 years old. The Federally-recognized Aroostook Band of Micmac Indians of Maine, Houlton Band of Maliseet Indians of Maine, Passamaquoddy Tribe of Maine, and the Penobscot Tribe of Maine, represented by the Wabanaki Intertribal Repatriation Committee, a non-Federally recognized Indian group, are widely recognized as having a shared cultural relationship with the people of the Ceramic Period of Maine (2,000 B.P. to European contact).

Officials of the Amherst College Museum of Natural History have determined that, pursuant to 25 U.S.C. 3001 (9-10), the human remains described above represent the physical remains of one individual of Native American ancestry. Officials of the Amherst College Museum of Natural History have also determined that, pursuant to 25 U.S.C. 3001 (3)(A), the 33 objects described above are reasonably believed to have been placed with or near the human remains at the time of death or later possibly as part of a death rite or ceremony. Lastly, officials of the Amherst College Museum of Natural History have determined that, pursuant to 25 U.S.C. 3001 (2), there is a relationship of shared group identity that can be reasonably traced between the Native American human remains and associated funerary objects and the Federally-recognized Aroostook Band of Micmac Indians of Maine, Houlton Band of Maliseet Indians of Maine, Passamaquoddy Tribe of Maine, and Penobscot Tribe of Maine, which are represented by the Wabanaki Intertribal Repatriation Committee, a non-Federally recognized Indian group.

Representatives of any other Indian tribe that believes itself to be culturally affiliated with the human remains and associated funerary objects should contact Tekla A. Harms, Repatriation Coordinator & Professor of Geology, Department of Geology, Amherst College, Amherst, MA 01002, telephone (413) 542-2711, before January 8, 2010. Repatriation of the human remains and associated funerary objects to the Aroostook Band of Micmac Indians of Maine, Houlton Band of Maliseet Indians of Maine, Passamaquoddy Tribe of Maine, and the Penobscot Tribe of Maine may proceed after that date if no additional claimants come forward.

The Amherst College Museum of Natural History is responsible for notifying the Aroostook Band of Micmac Indians of Maine, Houlton Band of Maliseet Indians of Maine, Passamaquoddy Tribe of Maine, and Penobscot Tribe of Maine that this notice has been published.

Dated: November 9, 2009.
David Tarler,
Acting Manager, National NAGPRA Program.

[FR Doc. E9-29293 Filed 12-8-09; 8:45 am]

BILLING CODE 4312-50-S